DEPARTMENT OF HEALTH AND HUMAN SERVICES

Centers for Medicare and Medicaid Services

[Document Identifier: CMS-10042, CMS-10081, CMS-843, CMS-841, 842, 844-853, CMS-484, and CMS-R-13]

Agency Information Collection Activities: Submission for OMB Review; Comment Request

AGENCY: Centers for Medicare and Medicaid Services.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New Collection; Title of Information Collection: Medicare Part A Provider and Durable Medical Equipment Supplier Satisfaction Study; Form No.: CMS-10042 (OMB# 0938-NEW); Use: This is a request for clearance of a survey questionnaire to conduct a standardized random sample of Part A providers' and DME suppliers' satisfaction of their experience with their Medicare contractor's performance in its administration of the Medicare-fee-for-service program. The purpose of this study is to develop a baseline measure of providers' and suppliers' satisfaction with Medicare contractors by administering a survey to 15,000 providers and suppliers, 5,000 serviced by each of the following contractors: Connecticut General Life Insurance Company (CIGNA)-D, Palmetto Government Business Administrators (PBGA)-D, and United Government Services, LLC (UGS)-Part A. The data collected will be interpreted to produce indicators of the contractor's quality of performance.; Frequency: Annually; Affected Public: Business or other for-profit, and Not-for-profit institutions; Number of Respondents: 4,500; Total Annual Responses: 4,500; Total Annual Hours: 1,125.

2. Type of Information Request: New Collection; Title of Information Collection: Data Collection for Administering the Survey for the Evaluation of the Demonstration to Maintain Independence and Employment (DMIE); Form No.: CMS-10081 (OMB# 0938-NEW); Use: The DMIE Programs, funded by CMS under Title II of the Federal Ticket to Work Legislation, provide Medicaid coverage to low-income working populations, The Survey Evaluation is designed to assess the impact of the Mississippi DMIE program on access to care, health status and quality of life, workforce participation, etc.; Frequency: Annually; Affected Public: Individuals or Households, and State, Local or Tribal Govt.; Number of Respondents: 928; Total Annual Responses: 928; Total Annual Hours: 253.

3. Type of Information Collection Request: Revision of a currently approved collection; Title of Information Collection: Durable Medicare Equipment Regional Carrier, Certificate of Medical Necessity and Supporting Documentation Requirements ; Form No.: CMS-843 (OMB# 0938-0875); Use: This information is needed to correctly process claims and ensure that claims are properly paid. These forms contain medical information and supporting documentation necessary to make appropriate claims determinations. Suppliers and physicians will complete these forms and as needed supply additional routine supporting documentation necessary to process claims; Frequency: On occasion; Affected Public: Business or other for-profit, Federal Government, Not-for-profit institutions; Number of Respondents: 2,700; Total Annual Responses: 141,900; Total Annual Hours: 30,100.

4. Type of Information Collection Request: Revision of a currently approved collection; Title of Information Collection: Durable Medical Equipment Regional Carrier, Certificate of Medical Necessity and Supporting Documentation Requirements; Form No.: CMS-841, 842, 844-853 (OMB# 0938-0679); Use: This information is needed to correctly process claims and ensure that claims are properly paid. These forms and supporting documentation contain medical information necessary to make appropriate claims determinations. Suppliers and physicians will complete these forms and as needed supply additional routine supporting documentation necessary to process claims; Frequency: On occasion; Affected Public: Business or other for-profit, Not-for-profit institutions, Federal Government; Number of Respondents: 137,300; Total Annual Responses: 6.7 million; Total Annual Hours: 1.53 million.

5. Type of Information Collection Request: Extension of a currently approved collection; Title of Information Collection: Attending Physician's Certification of Medical Necessity for Home Oxygen Therapy and Supporting Regulations 42 CFR 410.38 and 42 CFR 424.5; Form No.: 0938-0534 (CMS-484); Use: This form is used to determine if oxygen is reasonable and necessary pursuant to Medicare Statute; Medicare claims for home oxygen therapy must be supported by the treating physician's statement and other information including estimate length of need (# of months), diagnosis codes (ICD-9) etc.; Frequency: As needed; Affected Public: Business of other for-profit; Number of Respondents: 175,000; Total Annual Responses: 700,000; Total Annual Hours: 116,000.

6. Type of Information Collection Request: Reinstatement, without change, of a previously approved collection; Title of Information Collection: Conditions of Coverage for Organ Procurement (OPOs) and Supporting Regulations in 42 CFR, Section 486.301-.325); Form No.: CMS-R-13 (0938-0688); Use: OPOs are required to submit accurate data to CMS concerning population and information on donors and organs on an annual basis in order to assure maximum effectiveness in the procurement and distribution of organs.; Frequency: Annually; Affected Public: Not-for-profit institutions; Number of Respondents: 59; Total Annual Responses: 59; Total Annual Hours: 1.

To obtain copies of the supporting statement and any related forms for the proposed paperwork collections referenced above, access CMS Web site address at http://cms.hhs.gov/regulations/pra/default.asp, or E-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: March 20, 2003.
Dawn Willinghan,
Acting, Paperwork Reduction Act Team Leader, CMS Reports Clearance Officer, Office of Strategic Operations and Regulatory Affairs, Division of Regulations Development and Issuances.

[FR Doc. 03-7305 Filed 3-26-03; 8:45 am]

BILLING CODE 4210-03-P